DEPARTMENT OF ENERGY

Federal Energy Regulatory Commission

Combined Notice of Filings #1

Take notice that the Commission received the following electric corporate filings:

Docket Numbers: EC25-10-000.

Applicants: Number Three Wind LLC.

Description: Application for Authorization Under Section 203 of the Federal Power Act of Number Three Wind LLC.

Filed Date: 10/18/24.

Accession Number: 20241018-5221.

Comment Date: 5 p.m. ET 11/8/24.

Take notice that the Commission received the following electric rate filings:

Docket Numbers: ER24-2447-002.

Applicants: PJM Interconnection, L.L.C.

Description: Compliance filing: Compliance related to Capacity Obligations for Load Adjustments to be effective 8/31/2024.

Filed Date: 10/21/24.

Accession Number: 20241021-5147.

Comment Date: 5 p.m. ET 11/12/24.

Docket Numbers: ER24-2843-003.

Applicants: Atrisco Solar SF LLC.

Description: Tariff Amendment: Third Amendment to the Amended and Restated Lease Agreement to be effective 8/24/2024.

Filed Date: 10/21/24.

Accession Number: 20241021-5028.

Comment Date: 5 p.m. ET 10/31/24.

Docket Numbers: ER25-150-000.

Applicants: Midcontinent Independent System Operator, Inc.

Description: Compliance filing: 2024-10-18_Request for Waiver of COD re: 2018-2019 Projects to be effective N/A.

Filed Date: 10/18/24.

Accession Number: 20241018-5172.

Comment Date: 5 p.m. ET 11/8/24.

Docket Numbers: ER25-151-000.

Applicants: Duff Solar Park LLC.

Description: Baseline eTariff Filing: Market-Based Rate Application to be effective 12/18/2024.

Filed Date: 10/18/24.

Accession Number: 20241018-5173.

Comment Date: 5 p.m. ET 11/8/24.

Docket Numbers: ER25-152-000.

Applicants: Pleasantville Solar Park LLC.

Description: Baseline eTariff Filing: Market-Based Rate Application to be effective 12/18/2024.

Filed Date: 10/18/24.

Accession Number: 20241018-5176.

Comment Date: 5 p.m. ET 11/8/24.

Docket Numbers: ER25-153-000.

Applicants: Riverstart Solar Park IV LLC.

Description: Baseline eTariff Filing: Market-Based Rate Application to be effective 12/18/2024.

Filed Date: 10/18/24.

Accession Number: 20241018-5184.

Comment Date: 5 p.m. ET 11/8/24.

Docket Numbers: ER25-154-000.

Applicants: Sandrini BESS Storage LLC.

Description: Baseline eTariff Filing: Market-Based Rate Application to be effective 12/18/2024.

Filed Date: 10/18/24.

Accession Number: 20241018-5189.

Comment Date: 5 p.m. ET 11/8/24.

Docket Numbers: ER25-155-000.

Applicants: PJM Interconnection, L.L.C.

Description: Tariff Amendment: Notice of Cancellation of WMPA, SA No. 6088; AF1-209 to be effective 12/18/2024.

Filed Date: 10/18/24.

Accession Number: 20241018-5194.

Comment Date: 5 p.m. ET 11/8/24.

Docket Numbers: ER25-156-000.

Applicants: Peregrine Energy Storage, LLC.

Description: Baseline eTariff Filing: Peregrine Energy Storage, LLC MBR Tariff to be effective 12/18/2024.

Filed Date: 10/18/24.

Accession Number: 20241018-5197.

Comment Date: 5 p.m. ET 11/8/24.

Docket Numbers: ER25-157-000.

Applicants: Pacific Gas and Electric Company.

Description: Notice of Termination of Service Agreement No. 69 under PG&E's FERC Electric Tariff Volume No. 5.

Filed Date: 10/16/24.

Accession Number: 20241016-5246.

Comment Date: 5 p.m. ET 11/6/24.

Docket Numbers: ER25-158-000

Applicants: Constellation Energy Generation, LLC.

Description: Constellation Energy Generation, LLC requests a limited one-time waiver of the must-offer exception deadline in PJM Interconnection, L.L.C.'s Open Access Transmission Tariff Attachment DD Section 6.6(g).

Filed Date: 10/18/24.

Accession Number: 20241018-5229.

Comment Date: 5 p.m. ET 11/8/24.

Docket Numbers: ER25-160-000.

Applicants: Morris Solar, LLC.

Description: Baseline eTariff Filing: Morris Solar, LLC MBR Tariff to be effective 11/1/2024.

Filed Date: 10/21/24.

Accession Number: 20241021-5067.

Comment Date: 5 p.m. ET 11/12/24.

Docket Numbers: ER25-161-000.

Applicants: PJM Interconnection, L.L.C.

Description: 205(d) Rate Filing: Amendment to ISA, Service Agreement No. 6278; Queue No. AD2-048 to be effective 12/21/2024.

Filed Date: 10/21/24.

Accession Number: 20241021-5072.

Comment Date: 5 p.m. ET 11/12/24.

Docket Numbers: ER25-162-000.

Applicants: Midcontinent Independent System Operator, Inc.

Description: 205(d) Rate Filing: 2024-10-21_SA 4368 ATC-WPL GIA (S1017) to be effective 10/10/2024.

Filed Date: 10/21/24.

Accession Number: 20241021-5081.

Comment Date: 5 p.m. ET 11/12/24.

Docket Numbers: ER25-163-000.

Applicants: Midcontinent Independent System Operator, Inc.

Description: 205(d) Rate Filing: 2024-10-21_SA 4370 ATC-WPL GIA (S1018) to be effective 10/11/2024.

Filed Date: 10/21/24.

Accession Number: 20241021-5085.

Comment Date: 5 p.m. ET 11/12/24.

Docket Numbers: ER25-164-000.

Applicants: Midcontinent Independent System Operator, Inc.

Description: 205(d) Rate Filing: 2024-10-21_SA 2687 Termination of METC-New Covert FCA (T94) to be effective 10/22/2024.

Filed Date: 10/21/24.

Accession Number: 20241021-5088.

Comment Date: 5 p.m. ET 11/12/24.

Docket Numbers: ER25-165-000.

Applicants: Midcontinent Independent System Operator, Inc.

Description: 205(d) Rate Filing: 2024-10-21_SA 4369 ATC-EDP Renewables North America GIA (J1502) to be effective 10/10/2024.

Filed Date: 10/21/24.

Accession Number: 20241021-5097.

Comment Date: 5 p.m. ET 11/12/24.

Docket Numbers: ER25-166-000.

Applicants: PJM Interconnection, L.L.C.

Description: Tariff Amendment: Notice of Cancellation—WMPA Service Agreement No. 5722; Queue No. AF1-210 to be effective 12/21/2024.

Filed Date: 10/21/24.

Accession Number: 20241021-5104.

Comment Date: 5 p.m. ET 11/12/24.

Docket Numbers: ER25-167-000.

Applicants: The United Illuminating Company, ISO New England Inc.

Description: 205(d) Rate Filing: The United Illuminating Company submits tariff filing per 35.13(a)(2)(iii: United Illuminating Request for Approval of Transmission Rate Incentives to be effective 12/18/2024.

Filed Date: 10/21/24.

Accession Number: 20241021-5113.

Comment Date: 5 p.m. ET 11/12/24.

Docket Numbers: ER25-168-000.

Applicants: Canal Marketing LLC.

Description: 205(d) Rate Filing: Revised IROL-CIP Costs Rate Schedule to be effective 10/28/2024.

Filed Date: 10/21/24.

Accession Number: 20241021-5129.

Comment Date: 5 p.m. ET 11/12/24

Docket Numbers: ER25-169-000.

Applicants: California Independent System Operator Corporation.

Description: 205(d) Rate Filing: 2024-10-21 TCA Amendment Filing and Request for Waivers to be effective 12/21/2024.

Filed Date: 10/21/24.

Accession Number: 20241021-5150.

Comment Date: 5 p.m. ET 11/12/24.

Docket Numbers: ER25-170-000.

Applicants: SunZia Transmission, LLC.

Description: Initial rate filing: Transmission Owner Tariff to be effective 12/31/9998.

Filed Date: 10/21/24.

Accession Number: 20241021-5164.

Comment Date: 5 p.m. ET 11/12/24.

Docket Numbers: ER25-171-000.

Applicants: SunZia Transmission, LLC.

Description: 205(d) Rate Filing: Service Agreement No. 3—LGIA with SunZia Wind South and CAISO to be effective 12/31/9998.

Filed Date: 10/21/24.

Accession Number: 20241021-5165.

Comment Date: 5 p.m. ET 11/12/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 21, 2024.
Debbie-Anne A. Reese,
Secretary.

[FR Doc. 2024-24902 Filed 10-24-24; 8:45 am]

BILLING CODE 6717-01-P